DEPARTMENT OF ENERGY

Federal Energy Regulatory Commission

[Docket Nos. RP09-423-000; RP09-423-002]

Columbia Gulf Transmission Company; Notice of Technical Conference

August 26, 2009.

Take notice that the Commission Staff will convene a technical conference in the above-referenced proceeding on Thursday, September 24, 2009, at 10 a.m. (Eastern Standard Time), in a room to be designated at the offices of the Federal Energy Regulatory Commission, 888 First Street, NE., Washington, DC 20426.

At the technical conference, the Commission Staff and the parties to the proceeding can discuss all of the issues raised by Columbia Gulf's proposal, including but not limited to: (1) The accuracy of Columbia Gulf's lost and unaccounted-for gas (LAUF) measurement based on receipt and delivery meters; (2) Columbia Gulf's unrecovered LAUF quantities; (3) the proposed rates; and (4) defining the recovery period for LAUF volumes.

Columbia Gulf is required to support and justify the recovery of any unrecovered quantities for the 2008 calendar year and explain why any unrecovered quantities should be recovered for future or periodic Transportation Retainage Adjustment (TRA) filings. Columbia Gulf is also required to be prepared to address all of the concerns raised in the protests and comments in these proceedings, and if necessary, to provide additional technical, engineering and operational support for its proposal. Any party proposing alternatives to Columbia Gulf's proposal is required to be prepared to similarly support its position. Issues concerning Columbia Gulf's reservation of its right to recover the unrecovered Company Use Gas (CUG) and LAUF quantities for the 2008 calendar year deferral period, or any other unrecovered quantities, in a future annual or period TRA filing may also be discussed at the technical conference.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Lisa Long at (202) 502-8691 or e-mail lisa.long@ferc.gov.

Kimberly D. Bose,
Secretary.

[FR Doc. E9-21111 Filed 9-1-09; 8:45 am]

BILLING CODE 6717-01-P